FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011666-005.

Agreement Name: West Coast North America/Pacific Islands Vessel Sharing Agreement.

Parties: Hamburg Sud and Polynesia Line Ltd.

Filing Party: Conte Cicala; Clyde & Co. US LLP.

Synopsis: The amendment deletes Polynesia Line and replaces it with The China Navigation Co. Pte. Ltd. The amendment also removes authority which authorizes the Parties to belong to a rate agreement in the Trade and deletes obsolete portions of the agreement. The parties have requested expedited review.

Proposed Effective Date: 1/3/2019.

Location: http://fmcinet/Fmc.Agreements.Web/Public/AgreementHistory/795.

Dated: December 17, 2018.
Rachel Dickon,
Secretary.

[FR Doc. 2018-27613 Filed 12-20-18; 8:45 am]

BILLING CODE 6731-AA-P